DEPARTMENT OF VETERANS AFFAIRS

Advisory Committee on Structural Safety of Department of Veterans Affairs Facilities, Notice of Meeting

The Department of Veterans Affairs (VA) gives notice under Public Law 92-463 (Federal Advisory Committee Act) that a meeting of the Advisory Committee on Structural Safety of Department of Veterans Affairs Facilities will be held on Thursday, June 10, 2004, from 10 a.m. until 5 p.m., and on Friday, June 11, 2004, from 8:30 a.m. until 12:30 p.m., in Room 442, Export Import Bank, 811 Vermont Avenue, NW., Washington, DC. The meeting is open to the public.

The purpose of the Committee is to advise the Secretary of Veterans Affairs on matters of structural safety in the construction and remodeling of VA facilities, and to recommend standards for use by VA in the construction and alteration of facilities as prescribed under section 8105 of title 38, United States Code.

On June 10, the Committee will review developments in the field of structural design as they relate to seismic safety of buildings and fire safety issues. On June 11, the Committee will receive briefings/presentations on current fire and seismic safety issues that are particularly relevant to facilities owned and leased by the Department. The Committee will also vote on structural and fire safety recommendations for inclusion in VA's standards.

No time will be allocated for receiving oral presentations from the public. However, the Committee will accept written comments. Comments should be sent to Mr. Krishna K. Banga, Senior Structural Engineer, Facilities Quality Service, Office of Facilities Management (181A), Department of Veterans Affairs, 810 Vermont Avenue, NW., Washington, DC 20420. Those wishing to attend should contact Mr. Banga at (202) 565-9370.

Dated: May 18, 2004.
By Direction of the Secretary.
E. Philip Riggin,
Committee Management Officer.

[FR Doc. 04-11737 Filed 5-24-04; 8:45 am]

BILLING CODE 8320-01-M